DEPARTMENT OF TRANSPORTATION

Coast Guard

[USCG-2002-13396]

Great Lakes Pilotage Advisory Committee

AGENCY: Coast Guard, DOT.

ACTION: Notice of meetings.

SUMMARY: The Great Lakes Pilotage Advisory Committee (GLPAC) and its Subcommittee on Technology will meet to discuss various issues relating to pilotage on the Great Lakes. The meeting will be open to the public.

DATES: The Subcommittee will meet on Thursday, October 10, 2002, from 2:30 p.m. to 5:30 p.m. GLPAC will meet on Friday, October 11, 2002, from 8 a.m. to 4 p.m. The meeting may close early if all business is finished. Written material and requests to make oral presentations should reach the Coast Guard on or before October 8, 2002. Requests to have a copy of your material distributed to each member of the committee should reach the Coast Guard on or before October 2, 2002.

ADDRESSES: GLPAC will meet in the Duluth Seaway Port Authority's Board Room at 1200 Port Terminal Drive, Duluth, MN 55802. Send written material and requests to make oral presentations to Margie Hegy, Commandant (G-MW), U.S. Coast Guard Headquarters, 2100 Second Street SW., Washington, DC 20593-0001. This notice is available on the Internet at http://dms.dot.gov.

FOR FURTHER INFORMATION CONTACT: Margie Hegy, Executive Director of GLPAC, telephone 202-267-0415, fax 202-267-4700.

SUPPLEMENTARY INFORMATION: Notice of the meeting is given under the Federal Advisory Committee Act, 5 U.S.C. App. 2.

Agenda of Meetings

Subcommittee on Technology. The agenda includes the following:

(1) Assessment of technology needs of U.S. pilots on the U.S. Great Lakes.

(2) Assessment of training needs of U.S. pilots on the U.S. Great Lakes.

(3) Discussion of funding mechanisms—Capital improvement funds, surcharges, pilot rate, etc.

Great Lakes Pilotage Advisory Committee (GLPAC). The agenda includes the following:

(1) Update on Bridge Hour Study.

(2) Discussion on Pilotage Office Relocation Study.

(3) Progress report from Technology Subcommittee.

(4) Review definition of “designated” and “undesignated” waters.

(5) Pilot Boats—Status, standards, acquisition process, and alternatives.

The GLPAC meetings follow a public meeting on a bridge hour study being conducted on Great Lakes pilotage. This meeting will be held on October 10, 2002, from 8:30 a.m. to 11:30 a.m. at the same location.

Procedural

The meetings are open to the public. Please note that the meetings may close early if all business is finished. At the Chair's discretion, members of the public may make oral presentations during the meeting. If you would like to make an oral presentation at the meeting, please notify the Executive Director no later than October 8, 2002. Written material for distribution at the meeting should reach the Coast Guard no later than October 8, 2002. If you would like a copy of your material distributed to each member of the committee in advance of the meeting, please submit 10 copies to Margie Hegy at the address in the ADDRESSES section no later than October 2, 2002.

Information on Services for Individuals With Disabilities

For information on facilities or services for individuals with disabilities or to request special assistance at the meeting, contact the Executive Director as soon as possible.

Dated: September 19, 2002.
Joseph J. Angelo,
Acting Assistant Commandant for Marine Safety, Security and Environmental Protection.

[FR Doc. 02-24456 Filed 9-25-02; 8:45 am]

BILLING CODE 4910-15-P